DEPARTMENT OF DEFENSE

Department of the Army; Corps of Engineers

Notice of Intent To Prepare a Draft Environmental Impact Statement (EIS) for a Permit Application for the Proposed Timber Branch Subdivision Phase II, Near Covington, St. Tammany Parish, LA

AGENCY: Department of the Army, U.S. Army Corps of Engineers, DoD.

ACTION: Notice of intent.

SUMMARY: The U.S. Army Corps of Engineers, New Orleans District, is initiating the preparation of an Environmental Impact Statement under the National Environmental Policy Act in compliance with a judicial order. The Environmental Impact Statement is for a Department of the Army permit issued under Section 404 of the Clean Water Act to install the infrastructure necessary to implement an approximately 82-acre residential development to provide single and multi-family residential lots in the vicinity of LA Hwy 1085 and Bricker Road, near Covington, Louisiana, some of the property containing regulated wetlands. The permit was subsequently enjoined by the United States District Court, Eastern District of Louisiana. Information obtained from preparation of this EIS will be utilized in the re-evaluation of the enjoined permit decision.

FOR FURTHER INFORMATION CONTACT: Questions concerning the Environmental Impact Statement (EIS) should be addressed to Mr. Brian Breaux at U.S. Army Corps of Engineers, OD-S, P.O. Box 60267, New Orleans, LA 70160-0267, phone (504) 862-1938, fax number (504) 862-2117 or by E-mail at brian.w.breaux@mvn02.usace.army.mil.

SUPPLEMENTARY INFORMATION: 1. Proposed Action. The proposed action would include land-clearing, excavation, and deposition of fill material for site preparation and construction of drainage, utility and roadway infrastructure. Single-family and multi-family residential lots would then be offered for public sale. The approximately 82-acre project site grades through ridge and swale hardwood, mixed pine-hardwood/hardwood flats, pine flatwood, and pine savannah community types. Of the 82-acre development, 38.9 acres of pine flatwood/pine savannah wetlands would be directly affected by development.

2. Alternatives. Reasonable alternatives to consider include the avoidance and minimization of impacts and the “no action” alternative.

3. Scoping. Scoping is the process for determining the range of alternatives and issues to be addressed in the EIS. For this analysis, a public notice will be posted on the New Orleans District Web site, http://www.mvn.usace.army.mil/ops/regulatory/publicnotices.asp, requesting input on alternatives and issues to be evaluated. The public notice will also notify interested parties of any public scoping meetings that will be held in the local area. Notices will also be sent to local news media. All interested parties are invited to comment at this time.

4. Significant Issues. An Environmental Assessment and Finding of No Significant Impact were completed on the subject proposal and a Section 404 permit issued. The permit decision was subsequently challenged through litigation, O'Reilly, et al. v. U.S. Army Corps of Engineers, U.S.D.C., E.D. of La., CA 04 0940. The decision of the court enjoined the permit and required preparation of an EIS. Specific issues identified in the decision include wildlife resources, substrate, wetlands, aquatic resources, mitigation, segmenting of project phases, and cumulative effects.

5. Environmental Consultation and Review. Federal, State and local agencies will be consulted. The U.S. Fish and Wildlife Service (USFWS) will be consulted to assist in the documentation of existing conditions and assessment of effects of project alternatives through Fish and Wildlife Coordination Act consultation procedures. Consultation will be accomplished with the USFWS and the National Marine Fisheries Service (NMFS) concerning threatened and endangered species and their critical habitat. The NMFS will be consulted on the effects of this proposed action on Essential Fish Habitat. The draft EIS (DEIS) or a notice of its availability will be distributed to all interested agencies, organizations, and individuals.

6. Estimated Date of Availability. The DEIS is expected to be available not earlier than the spring of 2006.

Dated: March 4, 2005.
Stephen E. Jeselink,
Lieutenant Colonel, U.S. Army, Deputy District Engineer.

[FR Doc. 05-5123 Filed 3-15-05; 8:45 am]

BILLING CODE 3710-02-P